DEPARTMENT OF JUSTICE

National Institute of Corrections

Advisory Board Meeting

TIMES AND DATES: 8 a.m. to 4:30 p.m. on Monday, October 18, 2004; 8 a.m. to 4:30 p.m. on Tuesday, October 19, 2004.

PLACE: The Hilton Garden Inn, 815 14th Street, NW., Washington, DC 20005.

STATUS: Open.

MATTERS TO BE CONSIDERED: Welcome New Advisory Board Members; NIC Orientation; Briefing on NIC Strategic Plan; Public Health and Corrections briefing; Prison Rape Elimination Act; Board Business Issues.

FOR FURTHER INFORMATION CONTACT: Larry Solomon, Deputy Director, (202) 307-3106, ext. 44254.

Morris L. Thigpen,
Director.

[FR Doc. 04-20561 Filed 9-10-04; 8:45 am]

BILLING CODE 4410-36-M